DEPARTMENT OF EDUCATION

National Advisory Council on Indian Education; Public Teleconference Meeting

AGENCY: National Advisory Council on Indian Education (NACIE or Council), U.S. Department of Education.

ACTION: Announcement of an open public teleconference meeting.

SUMMARY: This notice sets forth the schedule of an upcoming public meeting conducted by the National Advisory Council on Indian Education NACIE). Notice of the meeting is required by section 10(a)(2) of the Federal Advisory Committee Act and intended to notify the public of its opportunity to attend.

DATES: The NACIE teleconference meeting will be held via conference call on September 25, 2015—2:00 p.m.-2:30 p.m. Eastern Daylight Saving Time. Up to 20 dial-in, listen only phone lines will be made available to the public on a first come, first served basis. The conference call number is 1-800-857-9682 and the participant code is 5273162.

FOR FURTHER INFORMATION CONTACT: Tina Hunter, Designated Federal Official, Office of Elementary and Secondary Education, U.S. Department of Education, 400 Maryland Avenue SW., Washington, DC 20202. Telephone: 202-205-8527. Fax: 202-205-0310.

SUPPLEMENTARY INFORMATION: NACIE's Statutory Authority and Function: The National Advisory Council on Indian Education is authorized by § 7141 of the Elementary and Secondary Education Act. The Council is established within the Department of Education to advise the Secretary of Education on the funding and administration (including the development of regulations, and administrative policies and practices) of any program over which the Secretary has jurisdiction and includes Indian children or adults as participants or programs that may benefit Indian children or adults, including any program established under title VII, part A of the Elementary and Secondary Education Act. The Council submits to the Congress, not later than June 30 of each year, a report on the activities of the Council that includes recommendations the Council considers appropriate for the improvement of Federal education programs that include Indian children or adults as participants or that may benefit Indian children or adults, and recommendations concerning the funding of any such program.

One of the Council's responsibilities is to develop and provide recommendations to the Secretary of Education on the funding and administration (including the development of regulations, and administrative policies and practices) of any program over which the Secretary has jurisdiction that can benefit Indian children or adults participating in any program which could benefit Indian children.

Meeting Agenda: The purpose of the meeting is to convene the Council to conduct the following business: (1) Final discussion, review and approval of the annual report to Congress; and, (2) Discuss schedule to submit recommendations to the Secretary of Education on funding and administration of programs.

Access to Records of the Meeting: The Department will post the official report of the meeting on the Office of Elementary and Secondary Education (OESE) Web site at: http://www2.ed.gov/about/offices/list/oese/index.html?src=oc 21 days after the meeting. Pursuant to the FACA, the public may also inspect the materials at the Office of Indian Education, United States Department of Education, 400 Maryland Avenue SW., Washington, DC 20202, Monday-Friday, 8:30 a.m. to 5:00 p.m. Eastern Daylight Saving Time or by emailing TribalConsultation@ed.gov or by calling Terrie Nelson on (202) 401-0424 to schedule an appointment.

Reasonable Accommodations: The teleconference is accessible to individuals with disabilities. If you will need an auxiliary aid or service to participate in the meeting (e.g., interpreting service, assistive listening device, or materials in an alternate format), notify Brandon Dent on (202) 453-6450 no later than September 18, 2015. Although we will attempt to meet a request received after request due date, we may not be able to make available the requested auxiliary aid or service because of insufficient time to make arrangements.

Electronic Access to this Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: www.federalregister.gov. Specifically, through the advanced search feature at this site, you can limit your search to documents published by the Department.

Authority: The National Advisory Council on Indian Education is authorized by section 7141 of the Elementary and Secondary Education Act.

Ann Whalen,
Senior Advisor to the Secretary Delegated the Duties of Assistant Secretary for Elementary and Secondary Education.

[FR Doc. 2015-22891 Filed 9-11-15; 8:45 am]

BILLING CODE P